DEPARTMENT OF HEALTH AND HUMAN SERVICES

National Institutes of Health

Center for Scientific Review; Amended Notice of Meeting

Notice is hereby given of a change in the meeting of the Musculoskeletal Rehabilitation Sciences Study Section, October 9, 2008, 8 a.m. to October 10, 2008, 4 p.m., Hilton Old Town Alexandria, 1767 King Street, Alexandria, VA, 22314 which was published in the Federal Register on September 17, 2008, 73 FR 53880-53882.

The meeting will be held October 16, 2008 to October 17, 2008. The meeting time and location remains the same. The meeting is closed to the public.

Dated: September 22, 2008.
Jennifer Spaeth,
Director, Office of Federal Advisory Committee Policy.

[FR Doc. E8-22850 Filed 10-1-08; 8:45 am]

BILLING CODE 4140-01-P